DEPARTMENT OF HEALTH AND HUMAN SERVICES

Centers for Disease Control and Prevention

Notice of Listing of Members of the National Centers for Disease Control and Prevention's 2010 Performance Review Board (PRB)

AGENCY: The Centers for Disease Control and Prevention (CDC), Department of Health and Human Services (HHS).

ACTION: Notice.

SUMMARY: The Centers for Disease Control and Prevention (CDC) announces the persons who will serve on the CDC's 2010 Performance Review Board. This action is being taken in accordance with Title 5, U.S.C., 4314(c)(4), which requires that members of performance review boards be appointed in a manner to ensure consistency, stability, and objectivity in performance appraisals and requires that notice of the appointment of an individual to serve as a member be published in the Federal Register.

The following persons will serve on the CDC Performance Review Board, which is responsible for making recommendations on performance appraisal ratings, pay adjustments, and performance awards for CDC's Senior Executive Service (SES) members:

Kevin Fenton (Co-Chair), Lynn Austin (Co-Chair), Ed Hunter, Rima Khabbaz, Crayton Lankford, Carolyn Black, Christine Branche, Anne Haddix, Barbara Harris, Jim Seligman, Walter Harris, Hazel Dean, Bill Porter.

For further information about the CDC Performance Review Board, contact the Centers for Disease Control and Prevention, Human Capital Management Office, Human Capital Planning Branch, 1600 Clifton Road, NE., MS E-50, Atlanta, GA 30333. Telephone (404) 498-6709 (not a toll free number).

Dated: October 20, 2010.
Tanja Popovic,
Deputy Associate Director for Science, Centers for Disease Control and Prevention.

[FR Doc. 2010-26999 Filed 10-25-10; 8:45 am]

BILLING CODE P